DEPARTMENT OF HEALTH AND HUMAN SERVICES

Centers for Medicare & Medicaid Services

42 CFR Part 419

[CMS-1501-CN2]

RIN 0938-AN46

Medicare Program; Changes to the Hospital Outpatient Prospective Payment System and Calendar Year 2006 Payment Rates; Correction

Corrections

In rule document 05-24447 beginning on page 76176 in the issue of Friday, December 23, 2005, make the following corrections:

§419.43 [Corrected]

1. On page 76178, in the second column, in §419.43, under the heading B. Corrections to Addendum A, in instruction 4b.,in the last paragraph, in the last line, “1m1” should read “1 ml”.

2. On page 76186, in the table Addendum L.—Out-Migration Wage Adjusted CY 2006, in the first column, in the third line, “010047” should read “040047”.

3. On the same page, in the same table, in the same column, in the fourth line, “010069” should read “040069”.

4. On the same page, in the same table, in the same column, in the fifth line, “010071” should read “040071”.

5. On page 76190, in the table Addendum L.—Out-Migration Wage Adjustment CY 2006, in the third column, in the 28th line, “0.0240” should read “0.0249”.

[FR Doc. C5-24447 Filed 1-13-06; 8:45 am]

BILLING CODE 1505-01-D